DEPARTMENT OF THE INTERIOR

Bureau of Land Management

[PO #4820000251]

Public Land Order No. 7960; Extension of Public Land Order No. 7634; Withdrawal of Public Land for the United States Air Force, Nevada

AGENCY: Bureau of Land Management, Interior.

ACTION: Public Land Order.

SUMMARY: This Public Land Order (PLO) extends the duration of the withdrawal created by PLO No. 7634 of 1,979 acres, which would otherwise expire on May 5, 2025, for an additional 20-year period. This extension is necessary to continue the protection of support facilities for the safe and secure operation of national defense activities on the Nevada Test and Training Range (NTTR).

DATES: This Public Land Order takes effect on April 24, 2025.

FOR FURTHER INFORMATION CONTACT: Edison Garcia, Land Law Examiner, Nevada State Office, at (775) 861-6530, email: edisongarcia@blm.gov. Individuals in the United States who are deaf, deafblind, hard of hearing, or have a speech disability may dial 711 (TTY, TDD, or Tele Braille) to access telecommunications relay services. Individuals outside the United States should use the relay services offered within their country to make international calls to the point-of-contact in the United States. The service is available 24 hours a day, 7 days a week, to leave a message or question with the above individual. You will receive a reply during normal business hours.

SUPPLEMENTARY INFORMATION: The purpose for which the withdrawal was first made requires this extension to continue the protection of the support facilities for the safe and secure operation of national defense activities on the NTTR. The lands withdrawn by PLO No. 7634 on May 6, 2005 (70 FR 24114), and serialized as N-77821 (NVNV106208383), are located at Base Camp in central Nye County, 60 miles east of Tonopah, Nevada. Public access to the land has been restricted since the 1960s.

Order

By virtue of the authority vested in the Secretary of the Interior by section 204(f) of the Federal Land Policy and Management Act of 1976, 43 U.S.C. 1714(f), it is ordered as follows:

1. Subject to valid existing rights, PLO No. 7634 (70 FR 24114 (2005)), which withdrew 1,979 acres of public land from settlement, sale, location, or entry under the general land laws, including the United States mining laws, but not from leasing under the mineral leasing laws, and reserved the land for use by the United States Air Force to protect support facilities for the safe and secure operation of national defense activities on the NTTR, is hereby extended for an additional 20-year period.

2. This withdrawal will expire 20 years from the effective date of this Order, unless, as a result of a review conducted prior to the expiration date pursuant to section 204(f) of the Federal Land Policy and Management Act of 1976, 43 U.S.C. 1714(f), the Secretary determines that the withdrawal shall be further extended.

(Authority: 43 U.S.C. 1714)

Doug Burgum,
Secretary of the Interior.

[FR Doc. 2025-07073 Filed 4-23-25; 8:45 am]

BILLING CODE 4331-21-P